NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: October 25, 2005, 8:30 a.m.-5:30 p.m. and October 26, 2005, 8:30 a.m.-2 p.m.

Place: National Science Foundation, 4201 Wilson Boulevard, Room 1235 S, Arlington, VA 22230.

Type of Meeting: Open.

Contact Person: Dr. Margaret E.M. Tolbert, Senior Advisor and Executive Liaison, CEOSE, Office of Integrative Activities, National Science Foundation, 4201 Wilson Boulevard, Arlington, VA 22230, Telephone: (703) 292-8040, mtolbert@nsf.gov.

Minutes: May be obtained from the Executive Liaison at the above address.

Purpose of Meeting: To provide advice and recommendations concerning broadening participation in science and engineering.

Agenda:

Tuesday, October 25, 2005

Welcome and Opening Statement by the CEOSE Chair.

Introductions.

Review of the CEOSE Meeting Agenda and Minutes.

Discussion of CEOSE Subcommittee Activities—Deliberations and Reports

Discussions/Presentations:

The National Science Foundation (NSF ) Budget and Its Programmatic Implications.

NSF 2004 Minority Serving Institutions (MSI) Report to Congress: Implications and Use of the U.S. Department of Education's Definition of MSI.

Discussion with the NSF Director and NSF Deputy Director.

The NSF Office of Equal Opportunity Programs.

Enforcement of Title IX on Behalf of NSF.

Strategies for Increasing Gender Diversity in S&E Education—Findings from NSF Research on Gender in Science and Engineering.

ADVANCE: A Work in Progress.

Wednesday, October 26, 2005

Opening Statement by the CEOSE Chair.

Discussions/Presentations:

Subcommittee Deliberations and Reports Continued.

Report of CEOSE Liaisons to National Science Foundation Advisory Committees.

Activities to Publicize the CEOSE Reports to Congress.

Completion of Unfinished Business.

Dated: September 27, 2005.
Susanne Bolton,
Committee Management Officer.

[FR Doc. 05-19932 Filed 10-4-05; 8:45 am]

BILLING CODE 7555-01-M